DEPARTMENT OF COMMERCE

National Oceanic and Atmospheric Administration

[RTID 0648-XC488]

Magnuson-Stevens Fishery Conservation and Management Act; Atlantic Coastal Fisheries Cooperative Management Act Provisions

AGENCY: National Marine Fisheries Service (NMFS), National Oceanic and Atmospheric Administration (NOAA), Commerce.

ACTION: Notice; public meetings and request for comments.

SUMMARY: NMFS will hold one virtual hearing and accept written comment regarding an action to implement Presidential Proclamations 9496 and 10287, establishing the Northeast Canyons and Seamounts Marine National Monument. Regulations under the Magnuson-Stevens Fishery Conservation and Management Act and the Atlantic Coastal Fisheries Cooperative Management Act require publication of this notice to provide interested parties the opportunity to comment on this upcoming fishery management plan amendment.

DATES: The virtual hearing will be held on November 16, 2022. See SUPPLEMENTARY INFORMATION for details, including the dates and times for the hearing. Written comments must be received on or before November 30, 2022.

ADDRESSES: You may submit written comments by the following method:

• Email: laura.deighan@noaa.gov. Include in the subject line “Comments on Monument Amendment.”

FOR FURTHER INFORMATION CONTACT: Laura Deighan, Fishery Management Specialist, 978-281-9184, laura.deighan@noaa.gov.

SUPPLEMENTARY INFORMATION: On September 15, 2016, the Northeast Canyons and Seamounts Marine National Monument was designated for waters of the North Atlantic (Presidential Proclamation 9496; 81 FR 65161, September 21, 2016). This Proclamation prohibited commercial fishing within the monument, with a 7-year exemption for the American lobster and Atlantic deep-sea red crab fisheries. In June 2020, monument prohibitions were revised via Proclamation 10049 (85 FR 35793, June 11, 2020) removing commercial fishing from the list of prohibited activities set forth in the 2016 Proclamation. Most recently, in October 2021, Proclamation 10287 (86 FR 57349, October 15, 2021) again modified the activities allowed within the monument. This 2021 proclamation restored commercial fishing to the list of prohibited activities, providing “for the prohibition of all commercial fishing in the monument, except for red crab and American lobster commercial fishing, which may be permitted until September 15, 2023.”

NOAA Fisheries will hold one virtual public hearing and accept written comments regarding an action intended to incorporate the monument area and commercial fishing prohibition into the region's fishery management plans and fishery regulations. A public hearing document with additional details can be found on the NOAA website at https://www.fisheries.noaa.gov/event/public-hearing-development-northeast-canyons-and-seamounts-marine-national-monument-omnibus. Information on the virtual hearing is below:

Wednesday, November 16, 2022, 3 p.m. ET. You can connect to the hearing using this website: https://attendee.gotowebinar.com/register/2004798251740374797.

Written comments will be accepted at the hearings or via the submission methods described above, by November 30, 2022.

Authority: 16 U.S.C. 1801 et seq.

Dated: November 3, 2022.
Kelly Denit,
Director, Office of Sustainable Fisheries, National Marine Fisheries Service.

[FR Doc. 2022-24409 Filed 11-8-22; 8:45 am]

BILLING CODE 3510-22-P